SMALL BUSINESS ADMINISTRATION

Notice; Small Business Administration Interest Rates

The Small Business Administration publishes an interest rate called the optional “peg” rate (13 CFR 120.214) on a quarterly basis. This rate is a weighted average cost of money to the government for maturities similar to the average SBA direct loan. This rate may be used as a base rate for guaranteed fluctuating interest rate SBA loans. This rate will be 5.000 (5) percent for the April-June quarter of FY 2007.

Janet A. Tasker,
Acting Associate Administrator for Financial Assistance.

[FR Doc. E7-6242 Filed 4-3-07; 8:45 am]

BILLING CODE 8025-01-P